DEPARTMENT OF ENERGY

Federal Energy Regulatory Commission

[Project No. 8005-007]

Columbia Mills Hydroelectric Lp; Green River Renewables LLC; Notice of Transfer of Exemption

1. On May 6, 2020, Columbia Mills Hydroelectric Limited Partnership (a subsidiary of Gravity Renewables, Inc), exemptee for the Moomaws Dam Hydroelectric Project No. 8005, filed a letter notifying the Commission that the project was transferred from Gravity Renewables, Inc. to Green River Renewables LLC. The exemption from licensing was originally issued on June 21, 1984.¹ The project is located on the Maury River in Rockbridge County, Virginia. The transfer of an exemption does not require Commission approval.

¹ Rockfish Corporation, Inc., 27 FERC ¶ 62,331 (1984). The project was transferred to Moomaws Dam Hydroelectric Corporation on April 29, 2010, and subsequently to Columbia Mills Hydroelectric Limited Partnership, a subsidiary of Gravity Renewables, Inc., on June 1, 2017.

2. Green River Renewables LLC is now the exemptee of the Moomaws Dam Hydroelectric Project No. 8005. All correspondence must be forwarded to: Mike Rickly P.E., Columbia Mills Hydroelectric, LLC, c/o Green River Renewables, LLC, 1700 Joyce Avenue, Columbus, OH 43219, Phone: (614) 299-9278, Email: mike@rickly.com.

Dated: June 17, 2020.
Kimberly D. Bose,
Secretary.

[FR Doc. 2020-13560 Filed 6-23-20; 8:45 am]

BILLING CODE 6717-01-P